DEPARTMENT OF ENERGY

Federal Energy Regulatory Commission

Combined Notice of Filings # 1

July 30, 2008.

Take notice that the Commission received the following electric corporate filings:

Docket Numbers: EC08-114-000.

Applicants: GSC Acquisition Company, GSCAC Holdings I LLC, GSCAC Holdings II LLC, GSCAC Merger Sub LLC, Complete Energy Holdings, LLC, LSP Energy Limited Partnership, La Paloma Generating Company, LLC.

Description: Joint Application for Approval of the Disposition of Jurisdictional Facilities Under Section 203 of the Federal Power Act of GSC Acquisition Company.

Filed Date: 07/25/2008.

Accession Number: 20080725-5041.

Comment Date: 5 p.m. Eastern Time on Friday, August 15, 2008

Take notice that the Commission received the following electric rate filings:

Docket Numbers: ER97-2801-022.

Applicants: PacifiCorp.

Description: PacifiCorp submits a Substitute First Revised Sheet.

Filed Date: 07/24/2008.

Accession Number: 20080725-0118.

Comment Date: 5 p.m. Eastern Time on Thursday, August 14, 2008.

Docket Numbers: ER98-4400-010.

Applicants: Pittsfield Generating Company, L.P.

Description: Pittsfield Generating Company, LP submits Appendix as a revised table of all generation assets controlled by it and its affiliates grouped by balancing authority area.

Filed Date: 07/23/2008.

Accession Number: 20080725-0076.

Comment Date: 5 p.m. Eastern Time on Wednesday, August 13, 2008.

Docket Numbers: ER01-1526-010.

Applicants: Newington Energy, L.L.C.

Description: Newington Energy, LLC submits a non-material change in status.

Filed Date: 07/23/2008.

Accession Number: 20080728-0035.

Comment Date: 5 p.m. Eastern Time on Wednesday, August 13, 2008.

Docket Numbers: ER01-3001-021; ER03-647-012.

Applicants: New York Independent System Operator, Inc.

Description: Compliance Filing of The New York Independent System Operator, Inc.

Filed Date: 07/25/2008.

Accession Number: 20080725-5083.

Comment Date: 5 p.m. Eastern Time on Friday, August 15, 2008.

Docket Numbers: ER02-2559-008; ER02-669-008; ER00-2391-009; ER00-3068-008; ER98-3511-012; ER02-1903-009; ER99-2917-010; ER98-3566-015; ER98-3563-012; ER98-3564-013; ER02-2120-006; ER05-714-003; ER03-623-008; ER04-290-004; ER04-187-006; ER01-1710-011; ER01-2139-012; ER02-2166-008; ER05-236-006; ER02-1838-008; ER03-1375-005.

Applicants: Backbone Mountain Windpower LLC; Bayswater Peaking Facility, LLC; Doswell Limited Partnership; FPL Energy Cape, LLC; FPL Energy Maine Hydro, LLC; FPL Energy Marcus Hook, L.P.; FPL Energy MH 50, LP; FPL Energy Power Marketing, Inc.; FPL Energy Wyman, LLC; FPL Energy Wyman IV, LLC; FPLE Rhode Island State Energy, L.P; Gexa Energy LLC; Jamaica Bay Peaking Facility, LLC; Meyersdale Windpower, LLC; Badger Windpower, LLC; North Jersey Energy Associates, a L.P.; Mill Run Windpower, LLC; Somerset Windpower, LLC; Pennsylvania Windfarms, Inc.; Northeast Energy Associates, LP; FPL Energy Seabrook, LLC; Waymart Wind Farm L.P.;

Description: FPLE Companies submits revised tariff sheets in compliance with the two orders.

Filed Date: 07/24/2008.

Accession Number: 20080725-0116.

Comment Date: 5 p.m. Eastern Time on Thursday, August 14, 2008.

Docket Numbers: ER06-1331-003; ER01-2543-005; ER01-2544-005; ER01-2545-005; ER01-2546-005; ER01-2547-005; ER08-110-003.

Applicants: CalPeak Power LLC; CalPeak Power-Panoche LLC; CalPeak Power-Vaca Dixon LLC; CalPeak Power-El Cajon LLC; CalPeak Power-Enterprise LLC; CalPeak Power-Border LLC; Starwood Power-Midway, LLC.

Description: The California Generators submit a non-material change in status in compliance with Order 652.

Filed Date: 07/24/2008.

Accession Number: 20080728-0044.

Comment Date: 5 p.m. Eastern Time on Thursday, August 14, 2008.

Docket Numbers: ER01-1071-011; ER06-9-006; ER05-1281-006; ER03-34-010; ER06-1261-005; ER03-1104-007; ER03-1105-007; ER06-1392-004; ER07-904-002; ER07-1157-003; ER07-174-005; ER07-875-002.

Applicants: Badger Windpower, LLC, FPL Energy Burleigh County Wind, LLC; FPL Energy Duane Arnold, LLC; FPL Energy Hancock County Wind, LLC; FPL Energy Mower County, LLC; FPL Energy North Dakota Wind, LLC; FPL Energy North Dakota Wind II, LLC; FPL Energy Oliver Wind, LLC; FPL ENERGY POINT BEACH, LLC; Logan Wind Energy LLC; Osceola Windpower, LLC; Peetz Table Wind Energy, LLC.

Description: FPLE Companies submits notice of change in status and Substitute First Revised Sheet 3 in compliance with FERC's Order 697 and 697-A.

Filed Date: 07/24/2008.

Accession Number: 20080728-0138.

Comment Date: 5 p.m. Eastern Time on Thursday, August 14, 2008.

Docket Numbers: ER02-1785-017.

Applicants: Thermo Cogeneration Partnership LP.

Description: Thermo Cogeneration Partnership, LP submits a notice of non-material change in status and revised tariff in compliance with Order 687-A.

Filed Date: 7/24/2008.

Accession Number: 20080728-0042.

Comment Date: 5 p.m. Eastern Time on Thursday, August 14, 2008.

Docket Numbers: ER02-1903-008.

Applicants: FPL Energy Marcus Hook, L.P.

Description: FPL Energy Marcus Hook, LP requests that the Commission accept the 6/6/08 change in status and tariff changes in conjunction etc.

Filed Date: 07/24/2008.

Accession Number: 20080725-0119.

Comment Date: 5 p.m. Eastern Time on Thursday, August 14, 2008.

Docket Numbers: ER04-230-037.

Applicants: New York Independent System Operator, Inc.

Description: The New York Independent System Operator, Inc submits Second Revised Sheet 424 et al. to FERC Electric Tariff, Original Volume 2.

Filed Date: 07/24/2008.

Accession Number: 20080724-0030.

Comment Date: 5 p.m. Eastern Time on Thursday, August 14, 2008.

Docket Numbers: ER05-1178-013; ER05-1191-013.

Applicants: Gila River Power, L.P.; Union Power Partners, L.P.

Description: Gila River Power, LP et al. submits Substitute First Revised Sheet 1 et al. to FERC Electric Tariff, First Revised Volume 1 in compliance with Order 697-A.

Filed Date: 07/23/2008.

Accession Number: 20080724-0168.

Comment Date: 5 p.m. Eastern Time on Wednesday, August 4, 2008.

Docket Numbers: ER06-738-011; ER06-739-011.

Applicants: Cogen Technologies Linden Venture, L.P.; East Coast Power Linden Holding, L.L.C.

Description: Cogen Technologies Linden Venture LP et al. submits First Revised Volume 1 to the aforementioned tariffs.

Filed Date: 07/24/2008.

Accession Number: 20080725-0117.

Comment Date: 5 p.m. Eastern Time on Thursday, August 14, 2008.

Docket Numbers: ER06-739-016; ER06-738-016; ER03-983-013; ER07-501-014; ER02-537-018; ER07-758-010; ER08-649-006.

Applicants: East Coast Power Linden Holding, LLC; Cogen Technologies Linden Venture, L.P.; Fox Energy Co. LLC; Shady Hills Power Company; Birchwood Power Partners, L.P.; Inland Empire Energy Center, L.L.C.; EFS Parlin Holdings, LLC.

Description: Notice of Non-Material Change in Status of General Electric Companies.

Filed Date: 07/28/2008.

Accession Number: 20080728-5109.

Comment Date: 5 p.m. Eastern Time on Monday, August 18, 2008.

Docket Numbers: ER07-501-012; ER98-1767-012; ER99-1695-013; ER99-2984-011.

Applicants: Birchwood Power Partners; Tenaska Frontier Parters, Ltd.; Elwood Energy, LLC; Green County Energy, LLC.

Description: J-Power North America Holdings, Ltd requests that FERC accept its notice of non-material change in status, to be effective as of 9/18/07.

Filed Date: 07/23/2008.

Accession Number: 20080725-0071.

Comment Date: 5 p.m. Eastern Time on Wednesday, August 13, 2008.

Docket Numbers: ER07-1372-010.

Applicants: Midwest Independent Transmission System.

Description: Midwest Independent Transmission System Operator, Inc submits proposed clarifications and revisions to the Open Access Transmission.

Filed Date: 07/23/2008.

Accession Number: 20080725-0070.

Comment Date: 5 p.m. Eastern Time on Wednesday, August 13, 2008.

Docket Numbers: ER08-54-005.

Applicants: ISO New England Inc.

Description: The Participating Transmission Owners Administrative Committee submits amendments to the ISO Tariff to comply with FERC's Order 890.

Filed Date: 07/25/2008.

Accession Number: 20080728-0034.

Comment Date: 5 p.m. Eastern Time on Friday, August 15, 2008.

Docket Numbers: ER08-371-002.

Applicants: Cooperative Energy Incorporated.

Description: Cooperative Energy Incorporated submits its FERC Rate Schedule 1, Substitute Original Sheet 1 attached as Appendix A to comply with Order 697.

Filed Date: 07/24/2008.

Accession Number: 20080725-0120.

Comment Date: 5 p.m. Eastern Time on Thursday, August 14, 2008.

Docket Numbers: ER08-506-000; ER08-506-001.

Applicants: Southern Company Services.

Description: Motion to withdraw filing and terminate proceeding of Southern Company Services, Inc.

Filed Date: 07/25/2008.

Accession Number: 20080728-0137.

Comment Date: 5 p.m. Eastern Time on Friday, August 15, 2008.

Docket Numbers: ER08-876-001; ER08-1006-001; ER08-1078-001; ER08-1079-001.

Applicants: Entergy Services, Inc.

Description: Entergy Services, Inc responds to FERC's 6/23/08 data request.

Filed Date: 07/23/2008.

Accession Number: 20080725-0072.

Comment Date: 5 p.m. Eastern Time on Wednesday, August 13, 2008.

Docket Numbers: ER08-1025-002.

Applicants: The Connecticut Light and Power Company.

Description: Northeast Utilities Service Company submits an Interconnection Agreement that contains the updated versions of Schedules D and E.

Filed Date: 07/25/2008.

Accession Number: 20080728-0046.

Comment Date: 5 p.m. Eastern Time on Friday, August 15, 2008.

Docket Numbers: ER08-1164-001.

Applicants: Escanaba Paper Co.

Description: Escanaba Paper Co. submits clarification on future PURPA sales and revised tariff sheets.

Filed Date: 07/24/2008.

Accession Number: 20080728-0043.

Comment Date: 5 p.m. Eastern Time on Thursday, August 14, 2008.

Docket Numbers: ER08-1172-001.

Applicants: Grand Ridge Energy LLC.

Description: Grand Ridge Energy LLC submits a supplement to the market-based rate application filed on 6/30/08.

Filed Date: 07/23/2008.

Accession Number: 20080725-0069.

Comment Date: 5 p.m. Eastern Time on Wednesday, August 13, 2008.

Docket Numbers: ER08-1286-000.

Applicants: Pacific Gas and Electric Company.

Description: Pacific Gas and Electric Company submits Revised Rate Schedule 114 with the City and County of San Francisco.

Filed Date: 07/22/2008.

Accession Number: 20080723-0033.

Comment Date: 5 p.m. Eastern Time on Tuesday, August 12, 2008.

Docket Numbers: ER08-1287-000.

Applicants: Nevada Power Company.

Description: Nevada Power Company submits an executed Agreement for Dynamic Scheduling of the Apex Generating Station between Nevada Power Company and Las Vegas Power Company.

Filed Date: 07/22/2008.

Accession Number: 20080723-0032.

Comment Date: 5 p.m. Eastern Time on Tuesday, August 12, 2008.

Docket Numbers: ER08-1288-000.

Applicants: Wapsipinicon Wind Project LLC.

Description: Wapsipinicon Wind Project, LLC submits its market-based rate application.

Filed Date: 07/22/2008.

Accession Number: 20080725-0073.

Comment Date: 5 p.m. Eastern Time on Tuesday, August 12, 2008.

Docket Numbers: ER08-1293-000.

Applicants: Crystal Lake Wind, LLC.

Description: Crystal Lake Wind, LLC submit its application for Market-based rates.

Filed Date: 07/25/2008.

Accession Number: 20080729-0137.

Comment Date: 5 p.m. Eastern Time on Friday, August 15, 2008.

Docket Numbers: ER08-1296-000.

Applicants: Osceola Windpower II, LLC.

Description: Osceola Windpower II, LLC's CD containing the FPL MISO Wind Workpapers to their request for authorization to sell energy and capacity at market-based rates and waiver of the 60-day notice requirement.

Filed Date: 07/25/2008.

Accession Number: 20080725-4005.

Comment Date: 5 p.m. Eastern Time on Friday, August 15, 2008.

Docket Numbers: ER08-1297-000.

Applicants: Ashtabula Wind, LLC.

Description: Ashtabula Wind LLC's CD containing the FPL MISO Wind Workpapers to their application for market based rate authority.

Filed Date: 07/25/2008.

Accession Number: 20080725-4004.

Comment Date: 5 p.m. Eastern Time on Friday, August 15, 2008.

Docket Numbers: ER08-1301-000.

Applicants: Midwest Independent Transmission System.

Description: Midwest Independent Transmission System Operator, Inc submits a Large Generator Interconnection Agreement.

Filed Date: 07/24/2008.

Accession Number: 20080728-0041.

Comment Date: 5 p.m. Eastern Time on Thursday, August 14, 2008.

Docket Numbers: ER08-1302-000.

Applicants: Midwest Independent Transmission System.

Description: Midwest Independent Transmission System Operator, Inc submits an Amended and Restated Generator Interconnection Agreement.

Filed Date: 07/24/2008.

Accession Number: 20080728-0040.

Comment Date: 5 p.m. Eastern Time on Thursday, August 14, 2008.

Docket Numbers: ER08-1303-000.

Applicants: Southern Company Services, Inc.

Description: Southern Company Services, Inc on behalf of the Southern Companies submits a rollover network integration transmission service agreement.

Filed Date: 07/25/2008.

Accession Number: 20080728-0033.

Comment Date: 5 p.m. Eastern Time on Friday, August 15, 2008.

Docket Numbers: ER08-1304-000.

Applicants: Northeast Utilities Service Company.

Description: Public Service Co of New Hampshire submits the executed Design, Engineering and Procurement Agreement for Noble Granite Reliable Wind Park.

Filed Date: 07/25/2008.

Accession Number: 20080728-0032.

Comment Date: 5 p.m. Eastern Time on Friday, August 15, 2008.

Docket Numbers: ER08-1305-000.

Applicants: Northeast Utilities Service Company.

Description: Public Service Co. of New Hampshire submits the executed Design, Engineering and Procurement Agreement for Indeck Energy Alexandria, LLC.

Filed Date: 07/25/2008.

Accession Number: 20080728-0031.

Comment Date: 5 p.m. Eastern Time on Friday, August 15, 2008.

Docket Numbers: ER08-1306-000.

Applicants: Southwest Power Pool Inc.

Description: Southwest Power Pool Inc. submits an executed Service Agreement for Network Transmission Service etc.

Filed Date: 07/25/2008.

Accession Number: 20080729-0001.

Comment Date: 5 p.m. Eastern Time on Friday, August 15, 2008.

Docket Numbers: ER08-1307-000.

Applicants: Southwest Power Pool.

Description: Southwest Power Pool Inc. submits an executed Service Agreement for Network Integration Transmission Service with Southwestern Public Service Company as Network etc.

Filed Date: 07/25/2008.

Accession Number: 20080729-0003.

Comment Date: 5 p.m. Eastern Time on Friday, August 15, 2008.

Take notice that the Commission received the following open access transmission tariff filings:

Docket Numbers: OA07-37-002.

Applicants: E. ON U.S. LLC.

Description: E.ON U.S. LLC on behalf of Louisville Gas and Electric Co et al. submits revisions to the Open Access Transmission Tariff in compliance with Order 890.

Filed Date: 07/24/2008.

Accession Number: 20080728-0045.

Comment Date: 5 p.m. Eastern Time on Thursday, August 14, 2008.

Docket Numbers: OA08-22-001.

Applicants: Florida Power Corporation.

Description: Compliance Filing re rollover rights of Florida Power Corp. d/b/a Progress Energy Florida, Inc.

Filed Date: 07/25/2008.

Accession Number: 20080725-5033.

Comment Date: 5 p.m. Eastern Time on Friday, August 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-18041 Filed 8-5-08; 8:45 am]

BILLING CODE 6717-01-P